NATIONAL AERONAUTICS AND SPACE ADMINISTRATION

[Notice (00-089)]

NASA Advisory Council, Minority Business Resource Advisory Committee; Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Thursday, August 24, 2000, 9:00 a.m. to 4:00 p.m., and Friday, August 25, 2000, 9:00 a.m. to 12:00 Noon.

ADDRESSES: Kennedy Space Center (KSC), Florida 32899-0001. Headquarters Building Room 2201.

FOR FURTHER INFORMATION CONTACT: Mr. Ralph C. Thomas III, Code K, National Aeronautics and Space Administration, Room 9K70, 300 E St., SW., Washington, DC 20546-0001, (202) 358-2088.

SUPPLEMENTARY INFORMATION: The meeting will be open to the public up to the seating capacity of the room. The agenda for the meeting is as follows:

—Overview of KSC

—Small Disadvantaged Business Participation in Major KSC Contracts

—Report on Mentor-Protégé Program

—Action Items

—NASA KSC Small Disadvantaged Business (SDB) Program Update

—Report of Chair

—Public Comment

—Report on MBRAC Sub Panels

—Technology Transfer and Commercialization

—Report on SDB Participation on Agency-Wide Contract(s)

It is imperative that the meeting be held on these dates to accommodate the scheduling priorities of the key participants. Visitors will be requested to sign a visitor's register.

Dated: July 24, 2000.
Matthew M. Crouch,
Advisory Committee Management Officer, National Aeronautics and Space Administration.

[FR Doc. 00-19440 Filed 8-1-00; 8:45 am]

BILLING CODE 7510-01-U